DEPARTMENT OF HEALTH AND HUMAN SERVICES

Administration for Children and Families

Expedited OMB Review and Public Comment: Community Services Block Grant (CSBG) Annual Report (OMB #0970-0492)

AGENCY: Office of Community Services, Administration for Children and Families, Department of Health and Human Services.

ACTION: Request for public comment.

SUMMARY: The Office of Community Services (OCS), Administration for Children and Families (ACF), U.S. Department of Health and Human Services (HHS), is requesting expedited review of an information collection request from the Office of Management and Budget (OMB) and is inviting public comments on the proposed collection of data for the new Community Services Block Grant (CSBG) CARES Act Supplemental and CSBG Disaster Supplemental funding. This information will be collected through modified versions of the currently approved CSBG Annual Report (OMB #0970-0492, expiration 2/28/2023).

DATES: Comments due within 60 days of publication. In compliance with the requirements of Section 3506(c)(2)(A) of the Paperwork Reduction Act of 1995, ACF is soliciting public comment on the specific aspects of the information collection described in this notice.

ADDRESSES: Copies of the proposed collection of information can be obtained and comments may be forwarded by emailing infocollection@acf.hhs.gov. Alternatively, copies can also be obtained by writing to the ACF, Office of Planning, Research, and Evaluation (OPRE), 330 C Street SW, Washington, DC 20201, Attn: ACF Reports Clearance Officer. All requests, emailed or written, should be identified by the title of the information collection.

SUPPLEMENTARY INFORMATION: Description: ACF is requesting that OMB grant a 180-day approval for this request under procedures for expedited processing. A request for review under normal procedures will be submitted within 180 days of the approval for this request. Any edits resulting from public comment will be incorporated into the submission under normal procedures. The CSBG Supplemental Annual Reports include modified versions of Modules 1, 2, and 4. Module 1 is modified to align with CSBG Disaster Supplemental and CSBG CARES State Plans and to help reduce the burden to the states. OCS modified Modules 2 and 4 to collect specific data for the supplemental funding and to reduce burden, including the removal of questions that were not pertinent to the data collection for the Supplemental Reports. OCS made additional technical modifications including minor wording, headings, and numbering revisions. Respondents are only expected to submit Module 3 once through the current CSBG Annual Report; OCS made technical revisions to allow respondents to confirm which funding source they are using—CSBG, CARES, or Disaster.

Respondents: State governments, including the District of Columbia and the Commonwealth of Puerto Rico, and U.S. territories and CSBG eligible entities (Community Action Agencies).

Annual Burden Estimates
Instrument | Total number of respondents | Total number of responses per respondent | Average burden hours per response | Total burden hours | Annual burden hours
CSBG Annual Report (States) | 52 | 3 | 198 | 30,088 | 10,029
CSBG Annual Report (Eligible Entities) | 1,009 | 3 | 697 | 2,109,819 | 703,273
CSBG CARES Supplemental Annual Report (States) | 52 | 3 | 107 | 16,692 | 5,564
CSBG CARES Annual Report (Eligible Entities) | 1,009 | 3 | 493 | 1,492,311 | 497,437
CSBG Disaster Supplemental Annual Report (States) | 15 | 3 | 95 | 4,275 | 1,425
CSBG Disaster Supplemental Annual Report (Eligible Entities) | 50 | 3 | 476 | 71,400 | 23,800

Estimated Total Annual Burden Hours: 1,241,528.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 112 Stat. 2729; 42 U.S.C. 9902(2).

Mary B. Jones,
ACF/OPRE Certifying Officer.

[FR Doc. 2020-25479 Filed 11-18-20; 8:45 am]

BILLING CODE 4184-27-P